ENVIRONMENTAL PROTECTION AGENCY

40 CFR Part 271

[FRL-7025-9]

Hazardous Waste Management Program: Final Authorization of State Hazardous Waste Management Program Revisions for State of New Mexico

AGENCY: Environmental Protection Agency (EPA).

ACTION: Proposed rule and request for comment.

SUMMARY: The EPA (also, “the Agency” in this preamble) is proposing to grant final authorization to the State of New Mexico Environment Department for its hazardous waste program revisions, specifically, revisions needed to meet the Resource Conservation and Recovery Act Clusters V through IX, which contains Federal rules promulgated between July 1, 1994 to June 30, 1999. In the “Rules and Regulations” section of this Federal Register (FR), EPA is authorizing the State's program revisions as an immediate final rule without prior proposal because the EPA views this action as noncontroversial and anticipates no adverse comments. The Agency has explained the reasons for this authorization in the preamble to the immediate final rule. If EPA does not receive adverse written comments, the immediate final rule will become effective and the Agency will not take further action on this proposal. If EPA receives adverse written comments, a second Federal Register document will be published before the time the immediate final rule takes effect. The second document may withdraw the immediate final rule or identify the issues raised, respond to the comments and affirm that the immediate final rule will take effect as scheduled. Any parties interested in commenting on this action should do so at this time.

DATES: Written comments must be received on or before September 10, 2001.

ADDRESSES: Mail written comments to Alima Patterson, Region 6, Regional Authorization Coordinator, Grants and Authorization Section (6PD-G), Multimedia Planning and Permitting Division, at the address shown below. You can examine copies of the materials submitted by the State of New Mexico during normal business hours at the following locations: EPA Region 6, 1445 Ross Avenue, Dallas, Texas 75202-2733, (214) 665-6444; or New Mexico Environment Department, 2044 Galisteo, Santa Fe, New Mexico 87505, phone (505) 827-1561.

FOR FURTHER INFORMATION CONTACT: Alima Patterson (214) 665-8533.

SUPPLEMENTARY INFORMATION: For additional information, please see the immediate final rule published in the “Rules and Regulations” section of this Federal Register.

Dated: May 18, 2001.
Jerry Clifford,
Acting Regional Administrator, Region 6.

[FR Doc. 01-19602 Filed 8-9-01; 8:45 am]

BILLING CODE 6560-50-P